NUCLEAR REGULATORY COMMISSION

10 CFR Parts 20, 30, 32, 33, 34, 35, 70, 71, 75, and 150

[NRC-2024-0032]

Regulatory Guide: Basis for Withdrawal of Regulatory Guides in Division 6, “Products,” and Division 10, “General”

AGENCY: Nuclear Regulatory Commission.

ACTION: Regulatory guide; withdrawal.

SUMMARY: The U.S. Nuclear Regulatory Commission (NRC) is withdrawing Regulatory Guides (RGs) in Division 6, “Products,” (RGs 6.1, 6.2, 6.4, 6.5, and 6.9), and Division 10, “General,” (RGs 10.2, 10.3, 10.4, 10.5, 10.6, 10.7, 10.8, and 10.9). These RGs are being withdrawn because there is more up-to-date guidance in the NUREG-1556 Series, “Consolidated Guidance About Materials Licenses,” making these RGs obsolete.

DATES: The withdrawal of the RGs listed in this document takes effect on January 31, 2024.

ADDRESSES: Please refer to Docket ID NRC-2024-0032 when contacting the NRC about the availability of information regarding this document. You may obtain publicly available information related to this document using any of the following methods:

• Federal Rulemaking Website: Go to https://www.regulations.gov and search for Docket ID NRC-2024-0032. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Leira Cuadrado, Office of Nuclear Material Safety and Safeguards, telephone: 301-415-0324; email: Leira.Cadrado@nrc.gov, or Harriet Karagiannis, Office of Nuclear Regulatory Research, telephone: 301-415-2493; email: Harriet.Karagiannis@nrc.gov.

SUPPLEMENTARY INFORMATION:

I. Discussion

The NRC is withdrawing RGs in Division 6, “Products,” (RGs 6.1, 6.2, 6.4, 6.5, and 6.9), and in Division 10, “General,” (RGs 10.2, 10.3, 10.4, 10.5, 10.6, 10.7, 10.8, and 10.9). The titles of these RGs are as follows:

(1) RG 6.1, Leak Testing Radioactive Brachytherapy Sources;

(2) RG 6.2, Integrity and Test Specifications for Selected Brachytherapy Sources;

(3) RG 6.4, Verification of Containment Properties of Sealed Radioactive Sources;

(4) RG 6.5, General Safety Standard for Installations Using Nonmedical Sealed Gamma-Ray Sources;

(5) RG 6.9, Establishing Quality Assurance Programs for the Manufacture and Distribution of Sealed Sources and Devices Containing Byproduct Material;

(6) RG 10.2, Guidance to Academic Institutions Applying for Specific Byproduct Material Licenses of Limited Scope;

(7) RG 10.3, Guide for the Preparation of Applications for Special Nuclear Material Licenses for Less than Critical Mass Quantities;

(8) RG 10.4, Guide for the Preparation of Applications for Licenses to Process Source Material;

(9) RG 10.5, Applications for a Type A License of Broad Scope;

(10) RG 10.6, Guide for the Preparation of Applications for an Industrial Radiography License;

(11) RG 10.7, Guide for the Preparation of Applications for Licenses for Laboratory and Industrial Use of Small Quantities of Byproduct Material;

(12) RG 10.8, Guide for the Preparation of Applications for Medical Use Programs; and

(13) RG 10.9, Guide for the Preparation of Applications for Licenses for the Use of Self-Contained Dry Source-Storage Gamma Irradiators.

The NRC staff issued these RGs in the 1970s and 1980s to comply with the regulations in title 10 of the Code of Federal Regulations (10 CFR), 10 CFR part 30, “Rules of General Applicability to Domestic Licensing of Byproduct Material,” 10 CFR part 33, “Specific Domestic Licenses of Broad Scope for Byproduct Material,” 10 CFR part 32, “Specific Domestic Licenses to Manufacture or Transfer Certain Items Containing Byproduct Material,” 10 CFR part 34, “Licenses for Industrial Radiography and Radiation Safety Requirements for Industrial Radiographic Operations,” 10 CFR part 35, “Medical Use of Byproduct Material,” 10 CFR part 70 “Domestic Licensing of Special Nuclear Material,” 10 CFR part 150 “Exemptions and Continued Regulatory Authority in Agreement States and in Offshore Waters under Section 274,” 10 CFR part 20, “Standards for Protection Against Radiation,” 10 CFR part 71, “Packaging and Transportation of Radioactive Material,” and 10 CFR part 75, “Safeguards on Nuclear Material—Implementation of Safeguards Agreements Between the United States and the International Atomic Energy Agency.”

Since the staff has consolidated and follows the latest guidance pertinent to materials licensees found in the NUREG-1556 Series, “Consolidated Guidance About Materials Licenses,” these RGs became outdated. Because NUREG-1556 provides up-to-date guidance to NRC byproduct material licensees, the staff determined that these RGs needed to be withdrawn. The basis for the withdrawal is available under ADAMS Accession No. ML23333A446.

Because these RGs are no longer needed, the NRC is withdrawing them. Withdrawal of an RG means that the guide no longer provides useful information or has been superseded by other guidance, technological innovations, congressional actions, or other events. The withdrawal of these RGs does not alter any prior or existing NRC licensing approval or the acceptability of licensee commitments to these RGs. Although these RGs are withdrawn, current licensees may continue to use them, and withdrawal does not affect any existing licenses or agreements. However, these RGs should not be used in future requests or applications for NRC licensing actions.

II. Additional Information

As noted in the Federal Register on December 9, 2022 (87 FR 75671), this document is being published in the “Rules” section of the Federal Register to comply with publication requirements under 1 CFR chapter I.

III. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: January 25, 2024.
For the Nuclear Regulatory Commission.
Meraj Rahimi,
Chief, Regulatory Guide and Programs Management Branch, Division of Engineering, Office of Nuclear Regulatory Research.

[FR Doc. 2024-01872 Filed 1-30-24; 8:45 am]

BILLING CODE 7590-01-P